DEPARTMENT OF HOMELAND SECURITY

Federal Emergency Management Agency

44 CFR Part 67

[Docket No. FEMA-B-7709]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. An environmental impact assessment has not been prepared.

Regulatory Flexibility Act

As flood elevation determinations are not within the scope of the Regulatory Flexibility Act, 5 U.S.C. 601-612, a regulatory flexibility analysis is not required.

Regulatory Classification

This proposed rule is not a significant regulatory action under the criteria of section 3(f) of Executive Order 12866 of September 30, 1993, Regulatory Planning and Review, 58 FR 51735.

Executive Order 13132, Federalism

This proposed rule involves no policies that have federalism implications under Executive Order 13132.

Executive Order 12988, Civil Justice Reform

This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Sandoval County, New Mexico and Incorporated Areas
Tributary A (southern split) | Approximately 130 feet upstream from the convergence with Tributary A | None | +5417 | City of Rio Rancho.
| Approximately 115 feet upstream from 11th street | None | +5436
* National Geodetic Vertical Datum.
# Depth in feet above ground.
+ North American Vertical Datum.
ADDRESSES
City of Rio Rancho
Maps are available for inspection at 3900 Southern Blvd, Rio Rancho, NM 87124.
Send comments to The Honorable Kevin Jackson, Mayor, City of Rio Rancho, 3900 Southern Blvd, PO Box 15550, Rio Rancho, NM 87124.
Bell County, Texas and Incorporated Areas
Acorn Creek | Approximately 300 feet upstream from confluence with Trimmier Creek | None | +678 | City of Killeen.
| Approximately 1.33 miles from Stagecoach Road | None | +807
Caprice Ditch (Formerly Site Tributary 7) | Confluence with Nolan Creek | None | +740 | City of Harker Heights.
| Intersection with Schwald Road | None | +854 | City of Killeen Bell County (Unincorporated Areas).
Chaparral Creek | Approximately 300 feet upstream from the confluence with Trimmier Creek | None | +727 | City of Killeen Bell County (Unincorporated Areas).
| Approximately 960 feet upstream from the Chaparral Road | None | +839
Edgefield Creek | Approximately 936 feet upstream from the confluence with South Nolan Creek | None | +912 | City of Killeen.
| Approximately 700 feet upstream from Edgefield Street | None | +944
Embers Creek | Confluence with Trimmier Creek | None | +774 | City of Killeen.
| Approximately 2060 feet upstream from Stagecoach Road | None | +807
Fryers Creek | Approximately 100 feet upstream from Waters Dairy Road | *591 | +590 | City of Temple.
| Approximately 500 feet downstream from State Highway 363 | *623 | +622
Harker Heights Tributary 4 | Confluence with Nolan Creek | *740 | +746 | City of Harker Heights.
| Approximately 300 feet upstream from Stillwood Drive | *774 | +773 | City of Killeen.
Hilliard Creek | Confluence with Long Branch Ditch | None | +801 | City of Killeen.
| Approximately 440 feet upstream from Transverse Drive | None | +839
Hilliard Tributary 1 | Confluence with Hilliard Creek | None | +830 | City of Killeen.
| Approximately 1300 feet upstream from confluence with Hilliard Creek | None | +845
Hog Pen Creek | Approximately 1000 feet upstream from Poison Oak Road | None | +547 | City of Temple.
| Approximately 1150 feet upstream from FM2305 | None | +619
Tributary 1 | Confluence with Hog Pen Creek | None | +575 | City of Temple.
| Approximately 1500 feet upstream from the confluence with Hog Pen Creek | None | +592
Tributary 2 | Confluence with Hog Pen Creek | None | +561 | City of Temple.
| Approximately 1000 feet upstream from Tarver Drive | None | +596
Liberty Ditch (Formerly Nolan Creek Tributary 3) | Confluence with Nolan Creek | +779 | +783 | City of Killeen.
| Approximately 740 feet upstream from Poage Avenue | None | +845
Little Nolan Creek | Confluence with Nolan Creek | *747 | +751 | City of Killeen.
| West Trimmier Drive | *904 | +908
Long Branch Ditch (Formerly Long Branch) | Confluence with Nolan Creek | *762 | +765 | City of Killeen.
| County Boundary | *826 | +827
North Reese Creek | Approximately 625 feet downstream from Reese Creek Highway | None | +873 | City of Killeen, Bell County (Unincorporated Areas).
| Approximately 4125 feet upstream from Laura Drive | None | +939
Tributary 1 | Approximately 400 feet downstream from Maxdale Street | None | +885 | City of Killeen Bell County (Unincorporated Areas).
| Approximately 920 feet upstream from Bunny Trail | None | +953
Tributary 1A | Approximately 178 feet upstream from confluence with North Reese Creek Tributary 1 | None | +944 | Bell County (Unincorporated Areas).
| Approximately 1638 feet upstream from the confluence with North Reese Creek Tributary 1 | None | +965
Tributary 3 | Approximately 1630 feet upstream from confluence with North Reese Creek | None | +867 | City of Killeen Bell County (Unincorporated Areas).
| Approximately 2700 feet upstream from Stagecoach Road | None | +916
Tributary 4 | Approximately 960 feet upstream from confluence with North Reese Creek | None | +877 | City of Killeen.
| Approximately 1620 feet upstream from confluence with North Reese Creek | None | +890
Old Florence Ditch (Formerly Little Nolan Creek Tributary 2) | Confluence with Little Nolan Creek | *822 | +825 | City of Killeen.
| Approximately 220 feet upstream from Trimmier Road | None | +897
Rainforest Creek | Approximately 515 feet upstream from confluence with South Nolan Creek | None | +901 | City of Killeen.
| Approximately 1740 feet upstream from Waterfall Road | None | +935
Robinette Creek | Approximately 324 feet upstream from confluence with South Nolan Creek | None | +935 | City of Killeen.
| Approximately 920 feet upstream from Robinette Road | None | +949
Rock Creek | Approximately 3000 feet downstream from Chaparral Road | None | +824 | City of Killeen, Bell County (Unincorporated Areas).
| Approximately 3500 feet upstream from Chaparral Road | None | +877
Tributary 1 | Approximately 268 feet upstream from confluence with Rock Creek | None | +827 | City of Killeen, Bell County (Unincorporated Areas).
| Approximately 1740 feet upstream from Chaparral Road | None | +862
Tributary 1A | Approximately 450 feet upstream from confluence with Rock Creek Tributary 1 | None | +835 | Bell County (Unincorporated Areas).
| Approximately 1140 feet upstream from dam | None | +856
South Nolan Creek | Approximately 2550 feet downstream from Watercrest Road | None | +903 | City of Killeen.
| Approximately 2340 feet upstream from Stan Schlueter Road | None | +981
Steward Ditch (Formerly Nolan Creek Tributary 4) | Confluence with Nolan Creek | *796 | +803 | City of Killeen.
| Approximately 1360 feet upstream from Duncan Ave. | *855 | +852
Trimmier Creek | Approximately 630 feet downstream from confluence with Acorn Creek | None | +686 | City of Killeen.
| Approximately 2900 feet upstream from Stagecoach Road | None | +834
Trimmier Road Ditch (Formerly Little Nolan Creek Tributary 1) | Confluence with Little Nolan Creek | *793 | +800 | City of Killeen.
| Approximately 2400 feet upstream from Old FM 440 | None | +965
Yowell Creek | Approximately 5180 feet upstream from confluence with Chaparral Creek | None | +793 | City of Killeen.
| Approximately 1250 feet upstream from Featherline Road | None | +878
Yowell Creek Tributary | Confluence with Yowell Creek | None | +788 | City of Killeen.
| Approximately 1250 feet upstream from Featherline Road | None | +863 |
* National Geodetic Vertical Datum.
# Depth in feet above ground.
+ North American Vertical Datum.
ADDRESSES
City of Harker Heights
Maps are available for inspection at City Hall, 305 Miller's Crossing, Harker Heights, TX 76548.
Send comments to The Honorable Ed Mullen, Mayor, City of Harker Heights, 305 Miller's Crossing, Harker Heights, TX 76548.
City of Killeen
Maps are available for inspection at City Hall, 101 North College Street, Killeen, TX 76540.
Send comments to The Honorable Timothy Hancock, Mayor, City of Killeen, P.O. Box 1329, Killeen, TX 76540.
City of Temple
Maps are available for inspection at City Hall, 2 North Main Street, Temple, TX 76501.
Send comments to The Honorable Bill Jones, III, Mayor, City of Temple, 2 North Main Street, Temple, TX 76501.
Bell County (Unincorporated Areas)
Maps are available for inspection at Bell County Courthouse, 101 E. Central Ave., Belton, TX 76513.
Send comments to The Honorable Jon Burrows, Judge, Bell County, P.O. Box 768, Belton, TX 76513.
Henrico County, Virginia and Incorporated Areas
Allens Branch | Approximately at the confluence with Chickahominy River. | None | +197 | Henrico County (Unincorporated Areas).
| Approximately 250 feet downstream from the I-295 Ramp. | None | +214
Chickahominy River | Approximately at Creighton Road | None | +77 | Henrico County (Unincorporated Areas).
| Approximately 1900 feet downstream from Shady Grove Road | None | +218
Copperas Creek | Approximately at the confluence with Tuckahoe Creek | None | +144 | Henrico County (Unincorporated Areas).
| Approximately 150 feet downstream from Waterford Way East | None | +219
Tributary 2 | Approximately at the confluence with Copperas Creek | None | +160 | Henrico County (Unincorporated Areas).
| Approximately 2000 feet upstream from Ridgefield Parkway/Cambridge Drive | None | +206
Fourmile Creek | Approximately at the confluence with James River | None | +11 | Henrico County (Unincorporated Areas).
| Approximately 2000 feet upstream from Doran Road | None | +92
Tributary 7 | Approximately at the confluence with Fourmile Creek | None | +85 | Henrico County (Unincorporated Areas).
| Approximately 775 feet upstream from the Footbridge | None | +88
Gillies Creek Tributary 1 | Approximately at the confluence with Gillies Creek | None | +121 | Henrico County (Unincorporated Areas).
| Approximately 250 feet downstream from South Kalmia Avenue | None | +154
Harding Branch | Approximately at the confluence with Tuckahoe Creek | None | +148 | Henrico County (Unincorporated Areas).
| Approximately 2000 feet upstream from Park Terrace Drive | None | +241
Tributary 1 | Approximately at the confluence with Harding Branch | None | +168 | Henrico County (Unincorporated Areas).
| Approximately 1000 feet upstream from the confluence with Harding Branch | None | +171
Heckler Village Tributary 1 | Approximately at the confluence with Gillies Creek | None | +109 | Henrico County (Unincorporated Areas).
| Approximately 1100 feet upstream of Wynfield Terrace | None | +145
Tributary 2 | Approximately at the confluence with Gillies Creek | None | +138 | Henrico County (Unincorporated Areas).
| Approximately 1600 feet upstream from Wynfield Terrace | None | +158
Horsepen Branch | Approximately at the confluence with Upham Brook | None | +174 | Henrico County (Unincorporated Areas).
| Approximately 300 feet upstream from Devers Road | None | +218
James River | Approximately 5550 feet southeast of the intersection of Osborne Landing and Kingsland Road | None | +16 | Henrico County (Unincorporated Areas).
| Approximately 1250 feet Northwest of the intersection of Stancraft Way and Old Osborne Turnpike | None | +32
Jordans Branch | Approximately at 2550 feet downstream of Interstate 64 | None | +160 | Henrico County (Unincorporated Areas).
| Approximately at 710 feet upstream of the Monument Avenue | None | +208
Meredith Branch | Approximately at the confluence with Chickahominy River | None | +186 | Henrico County (Unincorporated Areas).
| Approximately 500 feet downstream from Broad Meadows Road | None | +230
North Run | Approximately at the confluence with Upham Brook | +117 | +120 | Henrico County (Unincorporated Areas).
| Approximately 400 feet upstream from the confluence with Upham Brook | +119 | +120
Rooty Branch | Approximately 600 feet downstream from Yates Lane | None | +221 | Henrico County (Unincorporated Areas).
| Approximately 1800 feet upstream from Nuckols Road | None | +233
Tributary A To Gillies Creek Tributary 1 | Approximately at the confluence with Gillies Creek Tributary 1 | None | +145 | Henrico County (Unincorporated Areas).
| Approximately 1200 feet upstream from Yates Lane | None | +158
Tributary A to Gillies Creek Tributary 1 | Approximately at the confluence with Tributary A to Gillies Creek Tributary 1 | None | +150 | Henrico County (Unincorporated Areas).
Tributary | Approximately 750 feet south from Nine Mile Road | None | +160
* National Geodetic Vertical Datum.
# Depth in feet above ground.
+ North American Vertical Datum.
ADDRESSES
Henrico County (Unincorporated Areas)
Maps are available for inspection at Henrico West End Government Center, 4301 E. Parham Rd., Richmond, VA 23228.
Send comments to Mr. Robert Thompson, Director of Public Works, P.O. Box 27032, Richmond, VA 23273.

(Catalog of Federal Domestic Assistance No. 83.100, “Flood Insurance.”)

Dated: February 28, 2007.
David I. Maurstad,
Director, Mitigation Division, Federal Emergency Management Agency, Department of Homeland Security.

[FR Doc. E7-4154 Filed 3-7-07; 8:45 am]

BILLING CODE 9110-12-P